DEPARTMENT OF TRANSPORTATION

Federal Aviation Administration

14 CFR Part 39

[Docket No. FAA-2010-0178; Directorate Identifier 2010-NM-039-AD; Amendment 39-16224; AD 2010-05-14]

RIN 2120-AA64

Airworthiness Directives; Bombardier, Inc. Model CL-600-2B19 (Regional Jet Series 100 & 440) Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

The manufacturer has informed Transport Canada that a certain number of the resolver stators, which were installed in the AOA [angle of attack] transducers, were not cleaned correctly. This condition can degrade the AOA transducer performance at low temperatures resulting in freezing of the AOA transducer resolver, which may provide inaccurate AOA data to the Stall Protection System (SPS). If not corrected, this condition can result in early or late activation of the stick shaker and/or stick pusher.

The unsafe condition is early or late activation of the stick shaker or stick pusher, which can lead to loss of control of the airplane. This AD requires actions that are intended to address the unsafe condition described in the MCAI.

DATES: This AD becomes effective March 24, 2010.

The Director of the Federal Register approved the incorporation by reference of a certain publication listed in the AD as of March 24, 2010.

We must receive comments on this AD by April 23, 2010.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Wing Chan, Aerospace Engineer, Avionics and Flight Test Branch, ANE-172, FAA, New York Aircraft Certification Office (ACO), 1600 Stewart Avenue, Suite 410, Westbury, New York 11590; telephone (516) 228-7311; fax (516) 794-5531.

SUPPLEMENTARY INFORMATION:

Discussion

Transport Canada Civil Aviation, which is the aviation authority for Canada, has issued Canadian Airworthiness Directive CF-2010-04, dated January 27, 2010 (referred to after this as “the MCAI”), to correct an unsafe condition for the specified products. The MCAI states:

The manufacturer has informed Transport Canada that a certain number of the resolver stators, which were installed in the AOA [angle of attack] transducers, were not cleaned correctly. This condition can degrade the AOA transducer performance at low temperatures resulting in freezing of the AOA transducer resolver, which may provide inaccurate AOA data to the Stall Protection System (SPS). If not corrected, this condition can result in early or late activation of the stick shaker and/or stick pusher.

The unsafe condition is early or late activation of the stick shaker or stick pusher, which can lead to loss of control of the airplane. The required actions include inspecting to determine if certain AOA transducers are installed, and replacement if necessary. You may obtain further information by examining the MCAI in the AD docket.

Relevant Service Information

Bombardier has issued Alert Service Bulletin A601R-27-157, Revision A, dated January 18, 2010. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

An unsafe condition exists that requires the immediate adoption of this AD. The FAA has found that the risk to the flying public justifies waiving notice and comment prior to adoption of this rule because a certain number of the resolver stators, which were installed in the AOA transducers, were not cleaned correctly. This condition can degrade the AOA transducer performance at low temperatures, resulting in freezing of the AOA transducer resolver, which may provide inaccurate AOA data to the SPS. If not corrected, this condition can result in early or late activation of the stick shaker and/or stick pusher. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2010-0178; Directorate Identifier 2010-NM-039-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-05-14 Bombardier, Inc.: Amendment 39-16224. Docket No. FAA-2010-0178; Directorate Identifier 2010-NM-039-AD.

Effective Date

(a) This airworthiness directive (AD) becomes effective March 24, 2010.

Affected ADs

(b) None.

Applicability

(c) This AD applies to Bombardier, Inc. Model CL-600-2B19 (Regional Jet Series 100 & 440) airplanes, certificated in any category, serial numbers (S/Ns) 7003 and subsequent equipped with Thales angle of attack (AOA) transducers having part number (P/N) 45150340 or P/N C16258AA.

Subject

(d) Air Transport Association (ATA) of America Code 27: Flight Controls.

Reason

(e) The mandatory continued airworthiness information (MCAI) states:

“The manufacturer has informed Transport Canada that a certain number of the resolver stators, which were installed in the AOA transducers, were not cleaned correctly. This condition can degrade the AOA transducer performance at low temperatures resulting in freezing of the AOA transducer resolver, which may provide inaccurate AOA data to the Stall Protection System (SPS). If not corrected, this condition can result in early or late activation of the stick shaker and/or stick pusher.”

The unsafe condition is early or late activation of the stick shaker or stick pusher, which can lead to loss of control of the airplane. The required actions include inspecting to determine if certain AOA transducers are installed, and replacement if necessary.

Compliance

(f) You are responsible for having the actions required by this AD performed within the compliance times specified, unless the actions have already been done.

Actions

(g) Do the following actions.

(1) Within 250 flight hours after the effective date of this AD, inspect to determine if the serial number of each AOA transducer having P/N 45150340 or P/N C16258AA is listed in paragraph 1.A. of Bombardier Alert Service Bulletin A601R-27-157, Revision A, dated January 18, 2010. A review of airplane maintenance records is acceptable in lieu of this inspection if the serial number of the AOA transducer can be conclusively determined from that review.

(i) If the serial number is not listed in paragraph 1.A. of Bombardier Alert Service Bulletin A601R-27-157, Revision A, dated January 18, 2010, no further action is required other than compliance with paragraph (g)(2) of this AD.

(ii) If the serial number is listed in paragraph 1.A. of Bombardier Alert Service Bulletin A601R-27-157, Revision A, dated January 18, 2010, and the serial number has the letter “C”, no further action is required other than compliance with paragraph (g)(2) of this AD.

(iii) If the serial number is listed in paragraph 1.A. of Bombardier Alert Service Bulletin A601R-27-157, Revision A, dated January 18, 2010, and the serial number does not have the letter “C”: Before further flight, replace the AOA transducer with an AOA transducer that is either outside the affected serial numbers identified in paragraph 1.A. of Bombardier Alert Service Bulletin A601R-27-157, Revision A, dated January 18, 2010, or that has the letter “C” after the serial number, in accordance with paragraph 2., Part C, of the Accomplishment Instructions of Bombardier Alert Service Bulletin A601R-27-157, Revision A, dated January 18, 2010.

(2) As of the effective date of this AD, do not install any replacement AOA transducer having P/N 45150340 or P/N C16258AA, having a serial number listed in paragraph 1.A. of Bombardier Alert Service Bulletin A601R-27-157, Revision A, dated January 18, 2010, on any airplane, unless the transducer has been inspected by the manufacturer and has the letter “C” after the serial number.

FAA AD Differences

Note 1: This AD differs from the MCAI and/or service information as follows: No differences.

Other FAA AD Provisions

(h) The following provisions also apply to this AD:

(1) Alternative Methods of Compliance (AMOCs): The Manager, New York Aircraft Certification Office (ACO), ANE-170, FAA, has the authority to approve AMOCs for this AD, if requested using the procedures found in 14 CFR 39.19. Send information to ATTN: Program Manager, Continuing Operational Safety, FAA, New York ACO, 1600 Stewart Avenue, Suite 410, Westbury, New York 11590; telephone 516-228-7300; fax 516-794-5531. Before using any approved AMOC on any airplane to which the AMOC applies, notify your principal maintenance inspector (PMI) or principal avionics inspector (PAI), as appropriate, or lacking a principal inspector, your local Flight Standards District Office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(i) Refer to MCAI Canadian Airworthiness Directive CF-2010-04, dated January 27, 2010; and Bombardier Alert Service Bulletin A601R-27-157, Revision A, dated January 18, 2010; for related information.

Material Incorporated by Reference

(j) You must use Bombardier Alert Service Bulletin A601R-27-157, Revision A, dated January 18, 2010, to do the actions required by this AD, unless the AD specifies otherwise.

(1) The Director of the Federal Register approved the incorporation by reference of this service information under 5 U.S.C. 552(a) and 1 CFR part 51.

(2) For service information identified in this AD, contact Bombardier, Inc., 400 Côte-Vertu Road West, Dorval, Québec H4S 1Y9, Canada; telephone 514-855-5000; fax 514-855-7401; e-mail thd.crj@aero.bombardier.com; Internet http://www.bombardier.com.

(3) You may review copies of the service information at the FAA, Transport Airplane Directorate, 1601 Lind Avenue, SW., Renton, Washington. For information on the availability of this material at the FAA, call 425-227-1221 or 425-227-1152.

(4) You may also review copies of the service information that is incorporated by reference at the National Archives and Records Administration (NARA). For information on the availability of this material at NARA, call 202-741-6030, or go to: http://www.archives.gov/federal_register/code_of_federal_regulations/ibr_locations.html.

Issued in Renton, Washington, on February 24, 2010.
Jeffrey E. Duven,
Acting Manager, Transport Airplane Directorate, Aircraft Certification Service.

[FR Doc. 2010-4712 Filed 3-8-10; 8:45 am]

BILLING CODE 4910-13-P